DEPARTMENT OF COMMERCE

National Oceanic and Atmospheric Administration

RIN 0648-XA856

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will a hold work session, which is open to the public.

DATES: The work session will be held January 10, 2012 through January 12, 2012. The HMSMT work session will begin each day at 8:30 a.m. and continue until business is completed.

ADDRESSES: The work sessions will be held at Large Conference Room, Torrey Pines Court, National Marine Fisheries Service Southwest Fisheries Science Center, 3333 North Torrey Pines Court, La Jolla, CA 92037; telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT will discuss work assignments to be delivered at the March 2012 Council meeting in Sacramento, CA. The first assignment is the development of recommendations for a management framework for North Pacific albacore tuna fisheries. This will help inform the Council in relation to the development of such a framework planned by the Western and Central Pacific Fisheries Commission Northern Committee. The second assignment is to provide information to the Council about future management of the U.S. west coast swordfish fishery. The HMSMT will also begin work on the next SAFE (Stock Assessment and Fishery Evaluation) document, which is prepared annually, summarizing information from the previous year. Informational topics may also be discussed, time permitting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Authority: 16 U.S.C. 1801 et seq.

Dated: December 1, 2011.
Tracey L. Thompson,
Acting Director, Office of Sustainable Fisheries, National Marine Fisheries Service.

[FR Doc. 2011-31326 Filed 12-6-11; 8:45 am]

BILLING CODE 3510-22-P